COMMITTEE FOR PURCHASE FROM PEOPLE WHO ARE BLIND OR SEVERELY DISABLED

Procurement List; Proposed Additions and Deletions

AGENCY: Committee for Purchase From People Who Are Blind or Severely Disabled.

ACTION: Proposed deletions from the procurement list.

SUMMARY: The Committee is proposing to delete product(s) and service(s) from the Procurement List that were furnished by nonprofit agencies employing persons who are blind or have other severe disabilities.

DATES: Comments must be received on or before: August 22, 2021.

ADDRESSES: Committee for Purchase From People Who Are Blind or Severely Disabled, 1401 S. Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

7510-01-600-7582—Monthly Wall Calendar, Dated 2021, Jan-Dec, 8½″ x 11″

7510-01-600-7630—Wall Calendar, Dated 2021, Wire Bound w/Hanger, 12″ x 17″

7510-01-600-7575—Wall Calendar, Dated 2021, Wire Bound w/hanger, 15.5″ x 22″

7510-01-682-8098—Wall Calendar, Recycled, Dated 2021, Vertical, 3 Months, 12¼″ x 26″

7530-01-600-7617—Weekly Planner Book, Dated 2021, 5″ x 8″, Black

7530-01-600-7590—Daily Desk Planner, Dated 2021, Wire bound, Non-refillable, Black Cover

7530-01-600-7597—Monthly Desk Planner, Dated 2021, Wire Bound, Non-refillable, Black Cover

7530-01-600-7601—Weekly Desk Planner, Dated 2021, Wire Bound, Non-refillable, Black Cover

7510-01-682-8110—Professional Planner, Dated 2021, Recycled, Weekly, Black, 8½″ x 11″

7510-01-682-8091—Monthly Planner, Recycled, Dated 2021, 14-month, 6⅞″ x 8¾″

Designated Source of Supply: Chicago Lighthouse Industries, Chicago, IL

Contracting Activity: GSA/FAS ADMIN SVCS ACQUISITION BR(2, NEW YORK, NY

NSN(s)—Product Name(s): 7510-01-600-8027—Dated 2021 12-Month 2-Sided Laminated Wall Planner, 24″ x 37″

Designated Source of Supply: Chicago Lighthouse Industries, Chicago, IL

Contracting Activity: GSA/FAS FURNITURE SYSTEMS MGT DIV, PHILADELPHIA, PA

NSN(s)—Product Name(s): 7520-01-622-7156—Portable Desktop Clipboard with Calculator, 10″ W x 2⅗″ D x 16″ H, Army Green

Designated Source of Supply: LC Industries, Inc., Durham, NC

Contracting Activity: GSA/FAS ADMIN SVCS ACQUISITION BR(2, NEW YORK, NY

NSN(s)—Product Name(s):

7520-01-587-9633—Pen, Ballpoint, Retractable, 3 Pack, Black, Medium Point

7520-01-587-9650—Pen, Ballpoint, Retractable, Hybrid Ink, 6 Pack, Assorted, Medium Point

Designated Source of Supply: Industries for the Blind and Visually Impaired, Inc., West Allis, WI

Contracting Activity: GSA/FAS ADMIN SVCS ACQUISITION BR(2, NEW YORK, NY

NSN(s)—Product Name(s): 7510-01-579-9322—Binder, Removable Slant-D Rings, 100% Recyclable, Turned Edge, Dark Green, 3″ Capacity, Letter

Designated Source of Supply: South Texas Lighthouse for the Blind, Corpus Christi, TX

Contracting Activity: STRATEGIC ACQUISITION CENTER, FREDERICKSBURG, VA

NSN(s)—Product Name(s): 7510-01-579-9322—Binder, Removable Slant-D Rings, 100% Recyclable, Turned Edge, Dark Green, 3″ Capacity, Letter

Designated Source of Supply: South Texas Lighthouse for the Blind, Corpus Christi, TX

Contracting Activity: GSA/FAS ADMIN SVCS ACQUISITION BR(2, NEW YORK, NY

NSN(s)—Product Name(s): 7930-00-NIB-0720—Dust Remover, Compressed Gas, 10 oz.

Mandatory Source of Supply: The Lighthouse for the Blind, St. Louis, MO

Contracting Activity: GSA/FSS GREATER SOUTHWEST ACQUISITI, FORT WORTH, TX

NSN(s)—Product Name(s):

7520-01-484-5259—Pen, Ball Point, Retractable, Ergonomic, MD Executive Grip, Burgundy Barrel, Black Ink, Medium Point

7520-01-484-5255—Pen, Ball Point, Retractable, Ergonomic, MD Ergo Grip, Burgundy Barrel, Black Ink, Medium Point

Designated Source of Supply: Industries for the Blind and Visually Impaired, Inc., West Allis, WI

Contracting Activity: GSA/FAS ADMIN SVCS ACQUISITION BR(2, NEW YORK, NY

NSN(s)—Product Name(s):

8465-01-519-6132—Load Lifter Attachment Strap, MOLLE Components, Desert Camouflage

8465-01-524-7241—Load Lifter Attachment Strap, MOLLE Components, Universal Camouflage

8465-01-580-1666—Load Lifter Attachment Strap, MOLLE Components, OEFCP

Contracting Activity: DLA TROOP SUPPORT, PHILADELPHIA, PA

NSN(s)—Product Name(s): 8465-01-580-1666—Load Lifter Attachment Strap, MOLLE Components, OEFCP

Contracting Activity: W6QK ACC-APG NATICK, NATICK, MA

NSN(s)—Product Name(s): 8455-01-113-0061—Qualification Badge, Basic Expert, U. S. Army

Mandatory Source of Supply: Fontana Resources at Work, Fontana, CA

Contracting Activity: DLA TROOP SUPPORT, PHILADELPHIA, PA

NSN(s)—Product Name(s): 6640-00-165-5778—Kit, Urine Specimen Bottles With Mailers

Designated Source of Supply: Alphapointe, Kansas City, MO

Contracting Activity: DLA TROOP SUPPORT, PHILADELPHIA, PA

Service(s)

Service Type: Sourcing, Warehousing, Assembly and Kitting

Mandatory for: Army National Guard Recruiting and Retention Command, Nashville, TN, Houston Barracks, Nashville, TN

Designated Source of Supply: Industries for the Blind and Visually Impaired, Inc., West Allis, WI

Contracting Activity: DEPT OF THE ARMY, W7N1 USPFO ACTIVITY TN ARNG

Service Type: Furniture Design and Configuration Services

Mandatory for: Maine National Guard, Augusta, ME, 194 Winthrop Street, Augusta, ME

Designated Source of Supply: Industries for the Blind and Visually Impaired, Inc., West Allis, WI

Contracting Activity: DEPT OF THE ARMY, W7NC USPFO ACTIVITY ME ARNG

Michael R. Jurkowski,
Deputy Director, Business Operations.

[FR Doc. 2021-15737 Filed 7-22-21; 8:45 am]

BILLING CODE 6353-01-P